DEPARTMENT OF JUSTICE

Notice of Lodging of Consent Decree Under the Comprehensive Environmental Response, Compensation and Liability Act

Under 28 CFR 50.7, notice is hereby given that on March 27, 2003, a proposed Consent Decree in United States v. Mattiace Industries, Inc., et al., Civil Action No. CV-03-1011 (JS), was lodged with the United States District Court for the Eastern District of New York.

In this action, filed pursuant to Section 107(a) of the Comprehensive Environmental Response, Compensation, and Liability Act of 1980, as amended, 42 U.S.C. 9607(a), the United States seeks recovery of all response costs incurred and to be incurred by the United States at or in connection with the Mattiace Petrochemicals Superfund Site located at 16 Garvies Point Road in the City of Glen Cove, Nassau County, New York. The Consent Decree, which was lodged concurrently with the filing of the complaint, provides for reimbursement of a portion of EPA's past costs and interim and future costs, as well as a work takeover of the remedial action at the Site that will last for approximately 25 years. Approximately eighty parties are participating in the settlement and they are funding the future cleanup.

The Department of Justice will receive for a period of thirty (30) days from the date of this publication comments relating to the Consent Decree. Comments should be addressed to the Assistant Attorney General, Environment and Natural Resources Division, PO Box 7611, U.S. Department of Justice, Washington, DC 20044-7611, and should refer to Mattiace Petrochemicals Superfund Site, D.J. Ref. 90-11-3-07234.

The Consent Decree may be examined at the Office of the United States Attorney, Eastern District of New York, One Pierrepont Plaza, Brooklyn, New York 11201, and at U.S. EPA Region II, 290 Broadway, New York, New York 10007. During the public comment period, the Consent Decree may also be examined on the following Department of Justice Web site: http://www.usdoj.gov/enrd/open.html. A copy of the Consent Decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $37.00 (exclusive of attachments) (25 cents per page reproduction cost), payable to the U.S. Treasury.

Ronald Gluck,
Assistant Chief, Environmental Enforcement Section, Environment and Natural Resources Division.

[FR Doc. 03-9403 Filed 4-16-03; 8:45 am]

BILLING CODE 4410-15-M